DEPARTMENT OF TRANSPORTATION

Federal Aviation Administration

14 CFR Part 39

[Docket No. FAA-2009-0987; Directorate Identifier 2009-CE-054-AD]

RIN 2120-AA64

Airworthiness Directives; AeroSpace Technologies of Australia Pty Ltd Models N22B, N22S, and N24A Airplanes

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

Late in 2002 the manufacturer advised CASA of another Nomad accident which was possibly caused by aileron flutter with the flaps at 38 degrees. This, along with the other flutter incidents, has resulted in the manufacturer issuing ANMD-57-18 Issue 1 as a precautionary measure while they further investigate the issue.

The manufacturer has now completed their investigation and issued Alert Service Bulletin ANMD-27-53 to modify flap actuation linkages to restore the necessary rigidity to the outboard flap, and hence the aileron. The unacceptable flexibility of the outboard flap mechanism allows flutter to occur in extreme circumstances.

The proposed AD would require actions that are intended to address the unsafe condition described in the MCAI.

DATES: We must receive comments on this proposed AD by December 7, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090; e-mail: doug.rudolph@faa.gov.

SUPPLEMENTARY INFORMATION:

Comments Invited

We invite you to send any written relevant data, views, or arguments about this proposed AD. Send your comments to an address listed under the ADDRESSES section. Include “Docket No. FAA-2009-0987; Directorate Identifier 2009-CE-054-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On October 13, 2006, we issued AD 2006-21-12, Amendment 39-14797 (71 FR 61636; October 19, 2006). That AD required actions intended to address an unsafe condition on the products listed above.

Since we issued AD 2006-21-12, the manufacturer completed their flutter investigation and issued Nomad Alert Service Bulletin ANMD-27-53, dated February 20, 2008, to modify flap actuation linkages. This modification restores the necessary rigidity to the outboard flap, and hence the aileron.

The Civil Aviation Safety Authority, which is the aviation authority for Australia, has issued AD number AD/GAF-N22/69 Amdt 6, dated September 10, 2009 (referred to after this as “the MCAI”), to correct an unsafe condition for the specified products. The MCAI states:

Late in 2002 the manufacturer advised CASA of another Nomad accident which was possibly caused by aileron flutter with the flaps at 38 degrees. This, along with the other flutter incidents, has resulted in the manufacturer issuing ANMD-57-18 Issue 1 as a precautionary measure while they further investigate the issue.

The manufacturer has now completed their investigation and issued Alert Service Bulletin ANMD-27-53 to modify flap actuation linkages to restore the necessary rigidity to the outboard flap, and hence the aileron. The unacceptable flexibility of the outboard flap mechanism allows flutter to occur in extreme circumstances.

This amendment mandates Alert Service Bulletin ANMD-27-53, which requires modifications to the aircraft, but terminates the limitations imposed by earlier amendments.

You may obtain further information by examining the MCAI in the AD docket.

Relevant Service Information

AeroSpace Technologies of Australia Pty Ltd has issued Nomad Alert Service Bulletin ANMD-27-53, dated February 20, 2008. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

We estimate that this proposed AD will affect 15 products of U.S. registry. We also estimate that it would take about 73 work-hours per product to comply with the basic requirements of this proposed AD. The average labor rate is $80 per work-hour. Required parts would cost about $15,100 per product.

Based on these figures, we estimate the cost of the proposed AD on U.S. operators to be $314,100, or $20,940 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14797 (71 FR 61636; October 19, 2006), and adding the following new AD:

AeroSpace Technologies of Australia Pty Ltd: Docket No. FAA-2009-0987; Directorate Identifier 2009-CE-054-AD.

Comments Due Date

(a) We must receive comments by December 7, 2009.

Affected ADs

(b) This AD supersedes AD 2006-21-12 Amendment 39-14797.

Applicability

(c) This AD applies to Models N22B, N22S, and N24A airplanes, all serial numbers, including airplanes with float/amphibian configuration, certificated in any category.

Subject

(d) Air Transport Association of America (ATA) Code 27: Flight Controls.

Reason

(e) The mandatory continuing airworthiness information (MCAI) states:

Late in 2002 the manufacturer advised CASA of another Nomad accident which was possibly caused by aileron flutter with the flaps at 38 degrees. This, along with the other flutter incidents, has resulted in the manufacturer issuing ANMD-57-18 Issue 1 as a precautionary measure while they further investigate the issue.

The manufacturer has now completed their investigation and issued Alert Service Bulletin ANMD-27-53 to modify flap actuation linkages to restore the necessary rigidity to the outboard flap, and hence the aileron. The unacceptable flexibility of the outboard flap mechanism allows flutter to occur in extreme circumstances.

This amendment mandates Alert Service Bulletin ANMD-27-53, which requires modifications to the aircraft, but terminates the limitations imposed by earlier amendments.

Actions and Compliance

(f) Unless already done, do the following actions:

(1) Visually inspect the left-hand and right-hand ailerons for damage (i.e., distortion, bending, impact marks) and repair or replace any damaged aileron found following instructions obtained from the type-certificate holder (AeroSpace Technologies of Australia Pty Ltd) within the following time:

(i) For Models N22B and N24A airplanes: Inspect within 50 hours time-in-service (TIS) after December 23, 2003 (the effective date retained from AD 2003-22-13).

(ii) For Model N22S airplanes: Inspect within the next 10 hours TIS after November 8, 2006 (the effective date retained from AD 2006-21-12), or within 30 days after November 8, 2006 (the effective date retained from AD 2006-21-12), whichever occurs first.

(iii) For all airplanes: Repair or replace before further flight after the inspection where damage is found.

(2) Adjust the engine power lever actuated landing gear “up” aural warning microswitches, perform a ground test, and if deficiencies are detected during the ground test, make the necessary adjustments following Nomad Alert Service Bulletin ANMD-57-18, Rev 1, dated August 14, 2006, within the following time:

(i) For Models N22B and N24A airplanes: Within 50 hours TIS after December 23, 2003 (the effective date retained from AD 2003-22-13), unless already done following Nomad Alert Service Bulletin ANMD 57-18, dated December 19, 2002.

(ii) For Model N22S airplanes: Within the next 10 hours TIS after November 8, 2006 (the effective date retained from AD 2006-21-12), or within 30 days after November 8, 2006 (the effective date retained from AD 2006-21-12), whichever occurs first.

(3) For all airplanes: Do the following within the next 10 hours TIS after the effective date of this AD or within 30 days after the effective date of this AD, whichever occurs first:

(i) Incorporate the maximum flap extension limitations specified in paragraph 2.D. of Nomad Alert Service Bulletin ANMD-57-18, Rev 1, dated August 14, 2006, into the Limitations section of the airplane flight manual (AFM). To show compliance with this paragraph of this AD, a copy of page 7 of Nomad Alert Service Bulletin ANMD-57-18, Rev 1, dated August 14, 2006, may be inserted into the Limitations section of the AFM. You may take “unless already done credit” for this subparagraph if done in accordance with AD 2006-21-12 and no further action is required to comply with this subparagraph.

(ii) Fabricate (using at least ⅛-inch letters) and install placards on the instrument panel within the pilot's clear view as specified in paragraph 2.E. of Nomad Alert Service Bulletin ANMD-57-18, Rev 1, dated August 14, 2006. You may take “unless already done credit” for this subparagraph if done in accordance with AD 2006-21-12 and no further action is required to comply with this subparagraph.

(iii) Incorporate the landing performance information specified in paragraph 2.F. of Nomad Alert Service Bulletin ANMD-57-18, Rev 1, dated August 14, 2006, into the Limitations section and the Performance section of the AFM.

(4) For all airplanes: Modify the outboard forward flap linkage (Modification N953) and modify the outboard aft flap (aileron) mass balance following Nomad Alert Service Bulletin ANMD-27-53, dated February 20, 2008, within the next 12 months after the effective date of this AD. Accomplishment of all of the actions specified in Nomad Alert Service Bulletin ANMD-27-53, dated February 20, 2008, terminates the limitations requirements and the placard requirements specified in paragraph (f)(3) of this AD.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; e-mail: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI Civil Aviation Safety Authority of Australia, AD number AD/GAF-N22/69 Amdt 6, dated September 10, 2009, Nomad Alert Service Bulletin ANMD-27-53, dated February 20, 2008, and Nomad Alert Service Bulletin ANMD-57-18, Rev 1, dated August 14, 2006, for related information.

Issued in Kansas City, Missouri, on October 15, 2009.
Kim Smith,
Manager, Small Airplane Directorate, Aircraft Certification Service.

[FR Doc. E9-25443 Filed 10-21-09; 8:45 am]

BILLING CODE 4910-13-P